Title 3—

The President

Proclamation 7445 of May 30, 2001

To Provide for the Efficient and Fair Administration of Action Taken With Regard to Imports of Lamb Meat and for Other Purporse

By the President of the United States of America

A Proclamation

1. On July 7, 1999, President Clinton issued Proclamation 7208, which implemented action of a type described in section 203(a)(3) of the Trade Act of 1974, as amended (19 U.S.C. 2253(a)(3)) (the “Trade Act”), with respect to imports of fresh, chilled, or frozen lamb meat, provided for in subheadings 0204.10.00, 0204.22.20, 0204.23.20, 0204.30.00, 0204.42.20, and 0204.43.20 of the Harmonized Tariff Schedule of the United States (HTS). Proclamation 7208 took effect on July 22, 1999.

2. Proclamation 7208 established import relief in the form of tariff-rate quotas (TRQs) and increased duties but did not make specific provision for their administration. Accordingly, on July 30, 1999, President Clinton issued Proclamation 7214, which exempted from the TRQ goods that were exported prior to July 22, 1999, and delegated the President's authority to administer the TRQs to the United States Trade Representative. Proclamation 7214 took effect on July 30, 1999.

3. I have determined under section 203(g)(1) of the Trade Act (19 U.S.C. 2253(g)(1)) that it is necessary for the efficient and fair administration of the actions undertaken in Proclamation 7208 and Proclamation 7214 to grant second-year “in-quota” treatment to certain goods covered by the entry numbers set forth in the Annex to this proclamation.

4. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including but not limited to sections 203 and 604 of the Trade Act, and section 301 of title 3, United States Code, do proclaim that:

(1) In order to provide for the efficient and fair administration of the TRQs on imports of fresh, chilled, or frozen lamb meat classified in HTS subheadings 0204.10.00, 0204.22.20, 0204.23.20, 0204.30.00, 0204.42.20, and 0204.43.20, notwithstanding the provisions of subheadings 9903.02.01 through 9903.02.04 and immediately superior text thereto, goods covered by the entry numbers set forth in the Annex to this proclamation that are covered by a second quota year export certificate and that were exported in the first quota year shall be charged against the in-quota quantity provided for in HTS subheading 9903.02.03.

(2) Any provisions of previous proclamations and Executive Orders that are inconsistent with the actions taken in this proclamation are superseded to the extent of such inconsistency.

(3) The actions taken in this proclamation shall be effective on the date of signature of this proclamation and shall continue in effect through the close of the dates on which actions proclaimed in Proclamation 7208 and Proclamation 7214 cease to be effective, unless such actions are earlier expressly modified or terminated.

IN WITNESS WHEREOF, I have hereunto set my hand this thirtieth day of May, in the year of our Lord two thousand one, and of the Independence of the United States of America the two hundred and twenty-fifth.

B

Billing code 3195-01-P

[FR Doc. 01-14193

Filed 6-1-01; 12:03 pm]

Billing code 1390-01-C